DEPARTMENT OF THE TREASURY

Office of Thrift Supervision

[AC-10: OTS Nos. 19027, H-4310, and H-4359]

People's Bank, People's Mutual Holdings, and Peoples' United Financial, Inc., Bridgeport, CT; Approval of Conversion Application

Notice is hereby given that on February 14, 2007, the Assistant Managing Director, Examinations and Supervision—Operations, Office of Thrift Supervision (OTS), or her designee, acting pursuant to delegated authority, approved the application of People's Mutual Holdings and People's Bank, Bridgeport, Connecticut, to convert to the stock form of organization. Copies of the application are available for inspection by appointment (phone number: 202-906-5922 or e-mail: Public.Info@OTS.Treas.gov) at the Public Reading Room, 1700 G Street, NW, Washington, DC 20552, and OTS Northeast Regional Office,. Harborside Financial Center Plaza Five, Suite 1600, Jersey City, NJ 07311.

Dated: February 21, 2007.
By the Office of Thrift Supervision,
Sandra E. Evans,
Legal Information Assistant.

[FR Doc. 07-845 Filed 2-23-07; 8:45 am]

BILLING CODE 6720-07-M